DEPARTMENT OF TRANSPORTATION

Federal Motor Carrier Safety Administration

[Docket Nos. FMCSA-2008-0362 and FMCSA-2006-26367]

Motor Carrier Safety Advisory Committee (MCSAC) and Medical Review Board (MRB): Public Meetings

AGENCY: Federal Motor Carrier Safety Administration (FMCSA), DOT.

ACTION: Announcement of advisory committee public meetings.

SUMMARY: FMCSA announces a joint meeting of its Motor Carrier Safety Advisory Committee (MCSAC) and Medical Review Board (MRB) on September 9-10, 2013. MCSAC and the MRB will identify ideas and concepts the Agency should consider in reviewing the current hours of service requirements for drivers of passenger-carrying vehicles. This will enable MCSAC to complete its deliberations on Task 11-6 concerning hours-of-service (HOS) requirements for drivers of passenger-carrying vehicles. The committees will receive briefings on fatigue research on motorcoach drivers, and the North American Fatigue Management Program. On the afternoon of September 10, the committees will receive briefings on Schedule II medications. On Wednesday, September 11, MCSAC's Compliance, Safety and Accountability (CSA) subcommittee will convene. Also on Wednesday, September 11, the MRB will meet separately to discuss ideas and concepts the Agency should consider for gathering additional information about Schedule II medications and their effect on CMV drivers' ability to operate safely. Meetings are open to the public for their entirety and there will be a public comment period at the end of each day.

TIMES AND DATES: The joint meeting will be held Monday-Tuesday, September 9-10, 2013, from 9 a.m. to 4:30 p.m., Eastern Daylight Time (EDT), at the Hilton Alexandria Old Town, 1767 King Street, Alexandria, VA 22314 in the Washington and Jefferson Rooms on the 2nd floor. On Wednesday, September 11, 2013, the CSA subcommittee will meet at that same location and the MRB will meet across the street at the Embassy Suites Hotel, 1900 Diagonal Road, Alexandria, VA 22314 in the Mason Room on the Mezzanine level. Both meetings will take place from 9 a.m. to 4:30 p.m., EDT. Copies of all MRB and MCSAC Task Statements and an agenda for the entire meeting will be made available in advance of the meeting at http://mrb.fmcsa.dot.gov and http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals With Disabilities

For information on facilities or services for individuals with disabilities or to request special assistance at the meeting, contact Elizabeth Turner at (617) 494-2068, elizabeth.turner@dot.gov, by Friday, August 30, 2013.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. MCSAC provides advice and recommendations to the FMCSA Administrator on motor carrier safety programs and regulations, and operates in accordance with the Federal Advisory Committee Act (FACA, 5 U.S.C. App 2).

MRB

The MRB is comprised of five medical experts who each serve 2-year terms. Section 4116 of SAFETEA-LU requires the Secretary of Transportation, with the advice of the MRB and the chief medical examiner, to establish, review, and revise “medical standards for operators of commercial motor vehicles that will ensure that the physical condition of operators of commercial motor vehicles is adequate to enable them to operate the vehicles safely.” The MRB operates in accordance with FACA, as announced in the Federal Register (70 FR 57642, October 3, 2005).

II. Meeting Participation

Oral comments from the public will be heard during the last half-hour of the meetings each day. Should all public comments be exhausted prior to the end of the specified period, the comment period will close. Members of the public may submit written comments on the topics to be considered during the meeting by Friday, August 30, 2013, to Federal Docket Management System (FDMC) Docket Number FMCSA-2008-0362 for the MRB and FMCSA-2006-26367 for the MCSAC using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., ET, Monday through Friday, except Federal holidays.

Issued on: August 16, 2013.
Larry W. Minor,
Associate Administrator for Policy.

[FR Doc. 2013-20451 Filed 8-21-13; 8:45 am]

BILLING CODE P